JUDICIAL CONFERENCE OF THE UNITED STATES

Advisory Committee on Civil Rules; Meeting of the Judicial Conference

AGENCY: Advisory Committee on Civil Rules, Judicial Conference of the United States.

ACTION: Notice of open meeting.

SUMMARY: The Advisory Committee on Civil Rules will hold a meeting on April 1, 2020. The meeting will be open to public observation but not participation. An agenda and supporting materials will be posted at least 7 days in advance of the meeting at: http://www.uscourts.gov/rules-policies/records-and-archives-rules-committees/agenda-books.

DATES: April 1, 2020; 9 a.m.-5 p.m.

ADDRESSES: Hilton Hotel, 600 Okeechobee Blvd., West Palm Beach, FL 33401.

FOR FURTHER INFORMATION CONTACT: Rebecca A. Womeldorf, Secretary, Committee on Rules of Practice and Procedure of the Judicial Conference of the United States, Thurgood Marshall Federal Judiciary Building, One Columbus Circle NE, Suite 7-300, Washington, DC 20544, Telephone (202) 502-1820.

(Authority: 28 U.S.C. 2073)

Dated: January 14, 2020.
Rebecca A. Womeldorf,
Secretary, Committee on Rules of Practice and Procedure, Judicial Conference of the United States.

[FR Doc. 2020-00716 Filed 1-16-20; 8:45 am]

BILLING CODE 2210-55-P